DEPARTMENT OF COMMERCE

National Oceanic and Atmospheric Administration

[RTID 0648-XA487]

Nominations for Advisory Committee and Species Working Group Technical Advisor Appointments to the U.S. Section to the International Commission for the Conservation of Atlantic Tunas

AGENCY: National Marine Fisheries Service (NMFS), National Oceanic and Atmospheric Administration (NOAA), Commerce.

ACTION: Notice of request for nominations.

SUMMARY: NMFS is soliciting nominations to the Advisory Committee to the U.S. Section to the International Commission for the Conservation of Atlantic Tunas (ICCAT) as established by the Atlantic Tunas Convention Act (ATCA). NMFS is also soliciting nominations for Technical Advisors to the Advisory Committee's species working groups.

DATES: Nominations must be received by October 16, 2020.

ADDRESSES: Nominations, including a letter of interest and a resume or curriculum vitae, should be sent via email to Rachel O'Malley at rachel.o'malley@noaa.gov with a copy to Bryan Keller at bryan.keller@noaa.gov. Include in the subject line whether the nomination is for an Advisory Committee member or for a Technical Advisor to a species working group.

FOR FURTHER INFORMATION CONTACT: Bryan Keller, Office of International Affairs and Seafood Inspection; email: bryan.keller@noaa.gov; phone: 301-427-7725.

SUPPLEMENTARY INFORMATION:

The Convention and the Commission

ICCAT was established to provide an effective program of international cooperation in research and conservation in recognition of the unique problems related to the highly migratory nature of tunas and tuna-like species. The International Convention for the Conservation of Atlantic Tunas (Convention) entered into force in 1969 after receiving the required number of ratifications. The ICCAT Commission usually holds an Annual Meeting in November of each year, and convenes meetings of working groups and other ICCAT bodies between annual meetings as needed. Under Section 971a of ATCA (16 U.S.C. 971 et seq.), the United States is represented on the Commission by not more than three U.S. Commissioners. Additional information about the Commission is available at www.iccat.int.

Advisory Committee and Species Working Groups to the U.S. Section to the ICCAT

Section 971b of ATCA (16 U.S.C. 971 et seq.) requires that an advisory committee be established that shall be comprised of: (1) Not less than 5 nor more than 20 individuals appointed by the U.S. Commissioners to ICCAT who shall select such individuals from the various groups concerned with the fisheries covered by the ICCAT Convention; and (2) the chairs (or their designees) of the New England, Mid-Atlantic, South Atlantic, Caribbean, and Gulf of Mexico Fishery Management

Councils. Each member of the Advisory Committee appointed under paragraph (1) shall serve for a term of 2 years and be eligible for reappointment. The Committee meets at least twice a year during which members receive information and provide advice on ICCAT-related matters. All members of the Advisory Committee are appointed in their individual professional capacity and undergo a background screening. Any individual appointed to the Committee who is unable to attend all or part of an Advisory Committee meeting may not appoint another person to attend such meetings as his or her proxy. Members of the Advisory Committee shall receive no compensation for their services. The Secretary of Commerce and the Secretary of State may pay the necessary travel expenses of members of the Advisory Committee. The terms of all currently appointed Advisory Committee members expire on December 31, 2020. NMFS is soliciting nominees to serve as members of the Advisory Committee for a term of 2 years that will begin January 1, 2021 and expire December 31, 2022.

Section 971b-1 of ATCA specifies that the U.S. Commissioners may establish species working groups for the purpose of providing advice and recommendations to the U.S. Commissioners and to the Advisory Committee on matters relating to the conservation and management of any highly migratory species covered by the ICCAT Convention. Any species working group shall consist of no more than seven members of the Advisory Committee and no more than four Technical Advisors, as considered necessary by the Commissioners. Currently, there are four species working groups advising the Committee and the U.S. Commissioners: A Bluefin Tuna Working Group, a Swordfish/Sharks Working Group, a Billfish Working Group, and a Bigeye, Albacore, Yellowfin, and Skipjack Tunas Working Group. Technical Advisors to the species working groups serve at the pleasure of the Commissioners; therefore, the Commissioners can choose to alter these appointments at any time. As with Committee Members, Technical Advisors may not be represented by a proxy during meetings of the Advisory Committee.

Procedure for Submitting Nominations

Nominations to the Advisory Committee, or to a species working group, should include a letter of interest and a resume or curriculum vitae. Self-nominations are acceptable. Letters of recommendation are useful but not required. When making a nomination, please specify which appointment (Advisory Committee member or Technical Advisor to a species working group) is being sought. Nominees may also indicate which of the species working groups is preferred, although placement on the requested group is not guaranteed.

Dated: September 13, 2020.
Alexa Cole,
Director, Office of International Affairs and Seafood Inspection, National Marine Fisheries Service.

[FR Doc. 2020-20489 Filed 9-16-20; 8:45 am]

BILLING CODE 3510-22-P